DEPARTMENT OF JUSTICE

Federal Bureau of Investigation

[OMB Number-1100-0049]

Agency Information Collection Activities; Proposed eCollection eComments Requested—Revision of Current Collection

AGENCY: Federal Bureau of Investigation—Directorate of Intelligence, Office of Private Sector, Department of Justice.

ACTION: 60 Day notice.

SUMMARY: The Department of Justice, Office of Private Sector, is submitting the following information collection request to the Office of Management and Budget (OMB) for review and approval in accordance with the Paperwork Reduction Act of 1995.

DATES: The Department of Justice encourages public comment and will accept input until December 21, 2020.

FOR FURTHER INFORMATION CONTACT: If you have additional comments especially on the estimated public burden or associated response time, suggestions, or need a copy of the proposed information collection instrument with instructions or additional information, please contact Tiffany Locklear, Unit Chief, Office of Private Sector, FBI, 935 Pennsylvania Ave., Washington, DC 20535, tllocklear@fbi.gov, 202-436-7627.

SUPPLEMENTARY INFORMATION: Written comments and suggestions from the public and affected agencies concerning the proposed collection of information are encouraged. Your comments should address one or more of the following four points:

➢ Evaluate whether the proposed collection of information is necessary for the proper performance of the functions of the Department of Justice, Office of Private Sector including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: Revision of Current Collection.

2. The Title of the Form/Collection: InfraGard Membership Application and Profile Questionnaire The agency form number, if any, and the applicable component of the Department sponsoring the collection: There is no agency form number for this collection. The applicable component within the Department of Justice is the Office of Private Sector.

3. Affected public who will be asked or required to respond, as well as a brief abstract: The public affected is an individual or household. This collection is used by FBI's Office of Private Sector to vet applicant's for InfraGard membership. InfraGard is a Public/Private Alliance with the purpose of sharing intelligence and criminal information between the FBI and the private sector about threats and infrastructure vulnerabilities.

4. An estimate of the total number of respondents and the amount of time estimated for an average respondent to respond: 11,000 complete the application annually, taking approximately 30 minutes to complete.

5. An estimate of the total public burden (in hours) associated with the collection: This collection takes approximately 5,500 hours.

6. If additional information is required contact: Melody Braswell, Department Clearance Officer, United States Department of Justice, Justice Management Division, Policy and Planning Staff, Two Constitution Square, 145 N Street NE, 3E.405A, Washington, DC 20530.

Dated: October 16, 2020.
Melody Braswell,
Department Clearance Officer for PRA, U.S. Department of Justice.

[FR Doc. 2020-23334 Filed 10-20-20; 8:45 am]

BILLING CODE 4410-30-P